DEPARTMENT OF HEALTH AND HUMAN SERVICES

Food and Drug Administration

21 CFR Parts 211, 226, 510, and 514

[Docket No. 88N-0038]

RIN 0910-AA02

Records and Reports Concerning Experience With Approved New Animal Drugs; Delay of Effective Date

AGENCY: Food and Drug Administration, HHS.

ACTION: Interim final rule; delay of effective date.

SUMMARY: The Food and Drug Administration (FDA) is delaying the effective date of an interim final rule entitled “Records and Reports Concerning Experience With Approved New Animal Drugs,” published in the Federal Register of February 4, 2002 (67 FR 5046). The interim final rule amended FDA's regulations for records and reports concerning experience with approved new animal drugs, with an effective date of August 5, 2002. FDA is delaying the effective date so it can submit and seek approval on the information collection provisions of the rule under the Paperwork Reduction Act of 1995 and address comments received on the interim final rule.

DATES: The effective date published at 67 FR 5046, February 4, 2002, is delayed indefinitely. FDA will announce in the Federal Register an effective date.

FOR FURTHER INFORMATION CONTACT: Glenn Peterson, Center for Veterinary Medicine (HFV-212), Food and Drug Administration, 7500 Standish Pl., Rockville, MD 20855, 301-827-0224, or gpeterso@cvm.fda.gov.

Dated: July 25, 2002.
Margaret M. Dotzel,
Associate Commissioner for Policy.

[FR Doc. 02-19299 Filed 7-30-02; 8:45 am]

BILLING CODE 4160-01-S